DEPARTMENT OF AGRICULTURE

Agricultural Marketing Service

[Doc. No. AMS-SC-16-0022]

Fruit and Vegetable Industry Advisory Committee

AGENCY: Agricultural Marketing Service, USDA.

ACTION: Notice of public meeting.

SUMMARY: Pursuant to the Federal Advisory Committee Act, the Agricultural Marketing Service (AMS) is announcing a meeting of the Fruit and Vegetable Industry Advisory Committee (Committee). The meeting is being convened to examine the full spectrum of fruit and vegetable industry issues and to provide recommendations and ideas to the Secretary of Agriculture on how the U.S. Department of Agriculture (USDA) can tailor programs and services to better meet the needs of the U.S. produce industry. The meeting is open to the public. This notice sets forth the schedule and location for the meeting.

DATES: Wednesday, April 6, 2016, from 8:30 a.m. to 5 p.m. Eastern Time, and Thursday, April 7, 2016, from 8:30 a.m. to 1 p.m., Eastern Time.

ADDRESSES: The Committee meeting will be held in the Fairfax/Prince William Conference Room at the Hyatt Regency Crystal City Hotel @ Ronald Reagan National Airport, 2799 Jefferson Davis Highway, Arlington, Virginia 22202.

FOR FURTHER INFORMATION CONTACT: Pamela Stanziani, Designated Federal Official, USDA, AMS, Specialty Crops Program; Telephone: (202) 720-3334; Email: pamela.stanziani@ams.usda.gov.

SUPPLEMENTARY INFORMATION: Pursuant to the Federal Advisory Committee Act (FACA) (5 U.S.C. App.), the Secretary of Agriculture (Secretary) established the Committee in 2001, to examine the full spectrum of issues faced by the fruit and vegetable industry and to provide suggestions and ideas to the Secretary on how USDA can tailor its programs to meet the fruit and vegetable industry's needs. The Committee was re-chartered in July 2015, for a two-year period.

AMS Deputy Administrator for the Specialty Crops Program, Charles Parrott, serves as the Committee's Manager. Representatives from USDA mission areas and other government agencies affecting the fruit and vegetable industry are periodically called upon to participate in the Committee's meetings as determined by the Committee. AMS is giving notice of the Committee meeting to the public so that they may attend and present their views. The meeting is open to the public.

Public Comments: All written public comments must be submitted electronically by March 21, 2016, for the Committee's consideration to Pamela Stanziani at pamela.stanziani@ams.usda.gov or to www.regulations.gov, or mailed to: 1400 Independence Avenue SW., Room 2077-South, STOP 0235, Washington, DC 20250-0235. The meeting will be recorded, and information about obtaining a transcript will be provided at the meeting.

Agenda items may include, but are not limited to, welcome and introductions, administrative matters, progress reports from committee working group chairs and/or vice chairs, potential working group recommendation discussion and proposal, and presentations by subject matter experts as requested by the Committee.

Meeting Accommodations: The Hyatt Regency Crystal City Hotel @ Ronald Reagan National Airport is ADA compliant and provides reasonable accommodations to individuals with disabilities where appropriate. If you need a reasonable accommodation to participate in this public meeting, please notify Pamela Stanziani at pamela.stanziani@ams.usda.gov or (202) 720-3334, by March 21, 2016. Determinations for reasonable accommodations will be made on a case-by-case basis.

Dated: March 10, 2016.
Elanor Starmer,
Acting Administrator.

[FR Doc. 2016-05799 Filed 3-14-16; 8:45 am]

BILLING CODE 3410-02-P